DEPARTMENT OF ENERGY

Federal Energy Regulatory Commission

[Project No. 12726-002]

Notice of Application Tendered for Filing With the Commission and Establishing Procedural Schedule for Relicensing and a Deadline for Submission of Final Amendments: Warm Springs Hydro, LLC

Take notice that the following hydroelectric application has been filed with the Commission and is available for public inspection.

a. Type of Application: Original Minor license.

b. Project No.: 12726-002.

c. Date filed: April 1, 2019.

d. Applicant: Warm Springs Hydro, LLC.

e. Name of Project: Rock Creek Hydroelectric Project.

f. Location: The Rock Creek Hydroelectric Project is located on Rock Creek in Haines County, Oregon. The project would occupy 1.8 acres of the Wallowa Whitman National Forest, which is administered by the US Forest Service.

g. Filed Pursuant to: Federal Power Act 16 U.S.C. 791(a)-825(r).

h. Applicant Contact: Mr. Nicholas E. Josten, GeoSense, 2742 Saint Charles Avenue, Idaho Falls, ID 43404, (208) 528-6152.

i. FERC Contact: Kelly Wolcott, (202) 502-6480, kelly.wolcott@ferc.gov.

j. The application is not ready for environmental analysis at this time.

k. The proposed project would consist of: (1) A new diversion and fish screen on Rock Creek; (2) a new 8,300-foot-long, 18-24 inch-diameter low-pressure penstock, to be buried in an existing flume right-of-way and ending at the top of the ridge above the powerhouse site; (3) a new 3,100-foot-long, 20 to 24-inch-diameter high-pressure penstock, extending from the end of the low-pressure penstock to the new powerhouse; (4) a new approximately 20-foot-long, 15-foot-wide powerhouse, located adjacent to Rock Creek just above the existing Wilcox Ditch diversion, containing a single 0.85-megawatt (MW) Pelton turbine; (5) a new 500-foot-long 12.5-kV transmission line to deliver energy from the powerhouse to an Oregon Trail Electric Consumers Cooperative distribution line; and (6) appurtenant facilities. The estimated average annual generation would be 3,900-megawatt hours (MWh).

l. A copy of the application is available for review at the Commission in the Public Reference Room or may be viewed on the Commission's website at http://www.ferc.gov using the eLibrary link. Enter the docket number excluding the last three digits in the docket number field to access the document. For assistance, contact FERC Online Support. A copy is also available for inspection and reproduction at the address in item h above.

m. You may also register online at http://www.ferc.gov/docs-filing/esubscription.asp to be notified via email of new filings and issuances related to this or other pending projects. For assistance, contact FERC Online Support.

n. Procedural schedule:

The application will be processed according to the following preliminary schedule. Revisions to the schedule will be made as appropriate.

Milestone | Target Date
Notice of Acceptance/Notice of Ready for Environmental Analysis | July 2019.
Filing of recommendations, preliminary terms and conditions, and fishway prescriptions | September 2019.
Commission issues Non-Draft Environmental Assessment (EA) | March 2020.
Comments on EA | April 2020.
Modified terms and conditions | June 2020.

o. Final amendments to the application must be filed with the Commission no later than 30 days from the issuance date of the notice of ready for environmental analysis.

Dated: April 12, 2019.
Kimberly D. Bose,
Secretary.

[FR Doc. 2019-07746 Filed 4-17-19; 8:45 am]

BILLING CODE 6717-01-P